FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 19, 2014.

A. Federal Reserve Bank of Minneapolis (Jacquelyn K. Brunmeier, Assistant Vice President) 90 Hennepin Avenue, Minneapolis, Minnesota 55480-0291:

1. First American Investment, Inc., 401(k) Employee Stock Ownership Plan and Trust, Hudson, Wisconsin; Steven Michael Pfeiffer, River Falls, Wisconsin; Matthew Dean Adams, Roberts, Wisconsin; and Nicholas LeRoy Shultz, Saint Michael, Minnesota, individually and as Trustees of First American Investment, Inc., 401(k) Employee Stock Ownership Plan and Trust, to retain voting shares of First American Investment, Inc., and thereby indirectly retain voting shares of First American Bank, National Association, both in Hudson, Wisconsin.

Board of Governors of the Federal Reserve System, May 30, 2014.
Margaret McCloskey Shanks,
Deputy Secretary of the Board.

[FR Doc. 2014-12989 Filed 6-3-14; 8:45 am]

BILLING CODE 6210-01-P